DEPARTMENT OF TRANSPORTATION

Federal Railroad Administration

[Docket Number FR A-2014-0059]

Notice of Application for Approval of Discontinuance or Modification of a Railroad Signal System

In accordance with part 235 of Title 49 Code of Federal Regulations (CFR) and 49 U.S.C. 20502(a), this document provides the public notice that by a document dated February 24, 2014, Norfolk Southern Corporation (NS) and the Indiana and Ohio Railway (IORY) have jointly petitioned the Federal Railroad Administration (FRA) seeking approval for the discontinuance or modification of a signal system. FRA assigned the petition Docket Number FRA-2014-0059.

Applicants:

Norfolk Southern Corporation, Mr. Brian L. Sykes Chief Engineer-C&S Engineering 1200 Peachtree Street NE., Atlanta, GA 30309.

Indiana and Ohio Railway Mr. Charles McBride Senior Vice President Ohio Valley Region 2856 Cypress Way Cincinnati, OH 45212.

NS and IORY seek approval of the proposed discontinuance of a traffic control system (TCS) in Cincinnati, OH, on the IORY Oasis Subdivision, IORY Midland Subdivision, NS New Castle District, NS Cincinnati District, and the following tracks connecting these lines:

• NS Cincinnati District from Red Bank, Milepost (MP) CV 111.9, to Clare, MP CV 110.7; NS Connecting Track from Red Bank, MP CV 111.9, to Valley, MP CF 7.5; IORY Oasis Subdivision from Valley, MP CF 7.5, to Mill, MP CF 16.4; NS New Castle District from Mill, MP CF 16.4 to Vaughn, MP CF 17.2; NS Connecting Track from Mill, MP CF 16.4, to Control Point (CP) 248, MP CJ 248.4; IORY Connecting Track, from Oakley, MP CF 10.1, to East Norwood, MP 10.9; IORY Connecting Track, from Ridge, MP CF 10.6, to Penn, MP C 10.3; IORY Midland Sub, from East Norwood, MP 10.9, to NA Tower, MP 7.5.

The reason for the proposed changes is a TCS is no longer desirable to handle current train operations. The movement of through freight trains has been mostly eliminated from these lines for several years and, today, consists of a few local shifter movements per day.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 15, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on July 17, 2014.
Ron Hynes,
Director, Office of Safety Assurance and Compliance.

[FR Doc. 2014-18213 Filed 7-31-14; 8:45 am]

BILLING CODE 4910-06-P